FEDERAL RESERVE SYSTEM

Change in Bank Control Notices, Acquisition of Shares of Bank or Bank Holding Companies; Correction

This notice corrects a notice FR Doc. E8-2459 published on page 6155 of the issue for Thursday, February 5, 2009.

Under the Federal Reserve Bank of Atlanta heading, the entry for Redemptus Group, LLC, Atlanta, Georgia, is revised to read as follows:

A. Federal Reserve Bank of Atlanta (Steve Foley, Vice President) 1000 Peachtree Street, N.E., Atlanta, Georgia 30309:

1. Redemptus Group LLC, Dunwoody, Georgia, to acquire voting shares of McIntosh Bancshares, Inc., and thereby indirectly acquire voting shares of McIntosh State Bank, both of Jackson, Georgia.

Comments on this application must be received by February 20, 2009.

Board of Governors of the Federal Reserve System, February 5, 2009.
Robert deV. Frierson,
Deputy Secretary of the Board.

[FR Doc. E9-2718 Filed 2-9-09; 8:45 am]

BILLING CODE 6210-01-S